DEPARTMENT OF THE TREASURY

Bureau of Alcohol, Tobacco and Firearms

[Docket No. 942; ATF O 1130.27]

Delegation of the Director's Authorities in 27 CFR Part 252, Exportation of Liquors

To: All Bureau Supervisors

1. Purpose. This order delegates certain authorities of the Director to subordinate ATF officials and identifies the subordinate ATF officials with whom persons may file documents which are not ATF forms.

2. Background. Under current regulations, the Director has authority to take final action on matters relating to procedure and administration. The Bureau has determined that certain of these authorities should, in the interest of efficiency, be delegated to a lower organizational level.

3. Cancellation. ATF O 1100.84A, Delegation Order—Delegation to the Associate Director (Compliance Operations) of Authorities of the Director in 27 CFR part 252, Exportation of Liquors, dated 3/23/84, is canceled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR part 252 to subordinate officials. Also, this ATF order identifies the subordinate officials with whom applications, notices, and reports required by 27 CFR part 252, which are not ATF forms, are filed. The attached table identifies the regulatory sections, authorities and documents to be filed, and the authorized ATF officials. The authorities in the table may not be redelegated.

5. Questions. If you have questions about this order, contact the Regulations Division (202-927-8210).

Bradley A. Buckles,
Director.

Regulatory section | Officer(s) authorized to act or receive document
§ 252.2(a) | Division Chief, Alcohol and Tobacco.
§ 252.20(a) | Chief, Regulations Division. If alternate method or procedure does not affect an ATF approved formula, or import or export recordkeeping, Chief, National Revenue Center (NRC), may act upon the same method or procedure that has been approved by the Chief, Regulations Division.
§ 252.20(b) | Director of Industry Operations.
§ 252.20(c) | Chief, Regulations Division, to withdraw alternate method or procedure. Director of Industry Operations to withdraw emergency variation.
§ 252.22 | Unit Supervisor, NRC to whom report is made. Section Chief, NRC, to make demand of tax. Unit Supervisor to act on claim of $10,000 or less. Section Chief to act on claim of more than $10,000 but not more than $100,000 of tax. Chief, NRC, to act on claim of more than $100,000.
§ 252.23 | Chief, Regulations Division.
§ 252.35 | Area Supervisor.
§ 252.36 | Area Supervisor with whom application is filed. Area Supervisor, to require additional evidence. Unit Supervisor, NRC, to whom district director of customs sends application.
§ 252.37 | Area Supervisor.
§ 252.38 | Area Supervisor.
§ 252.43 | Chief, Regulations Division.
§ 252.45 | Inspector, Specialist or Special Agent.
§ 252.52a | Section Chief, NRC.
§ 252.55 | Section Chief, NRC.
§ 252.56 | Section Chief, NRC.
§ 252.57 | Section Chief, NRC.
§ 252.58(c) | Unit Supervisor, NRC.
§ 252.62(b) | Unit Supervisor, NRC.
§ 252.67 | Section Chief, NRC, or Area Supervisor.
§ 252.70 | Section Chief, NRC.
§ 252.71 | Section Chief, NRC.
§ 252.72 | Unit Supervisor, NRC.
§ 252.74 | Section Chief, NRC.
§ 252.96 | Specialist, NRC.
§ 252.103(b) | Chief, NRC, upon recommendation of Director of Industry Operations.
§ 252.104 | Section Chief, NRC.
§ 252.116 | Area Supervisor.
§ 252.117 | Unit Supervisor, NRC.
§ 252.122(c) and (d) | Specialist, NRC.
§ 252.123(b) | Chief, NRC, upon recommendation of Director of Industry Operations.
§ 252.125 | Unit Supervisor, NRC.
§ 252.131 | Area Supervisor.
§ 252.133 | Unit Supervisor, NRC.
§ 252.146 | Unit Supervisor, NRC.
§ 252.147 | Unit Supervisor, NRC.
§ 252.161 | Area Supervisor.
§ 252.162 | Unit Supervisor, NRC.
§ 252.171 | Unit Supervisor, NRC.
§ 252.195b(b) | Unit Supervisor, NRC or Area Supervisor.
§ 252.195b(c) | Unit Supervisor, NRC.
§ 252.198 | Area Supervisor.
§ 252.199 | Unit Supervisor, NRC.
§ 252.211 | Unit Supervisor, NRC.
§ 252.215 | Unit Supervisor or Area Supervisor.
§ 252.218 | Unit Supervisor, NRC.
§ 252.220 | Area Supervisor.
§ 252.220a | Unit Supervisor, NRC.
§ 252.221 | Unit Supervisor, NRC.
§ 252.225 | Unit Supervisor, NRC.
§ 252.226 | Unit Supervisor, NRC.
§ 252.227 | Unit Supervisor, NRC.
§ 252.247 | Unit Supervisor, NRC.
§ 252.250 | Unit Supervisor, NRC.
§ 252.262 | Unit Supervisor, NRC.
§ 252.265 | Director of Industry Operations.
§ 252.266 | Director of Industry Operations.
§ 252.268 | Unit Supervisor, NRC.
§ 252.269(c) | Unit Supervisor, NRC.
§ 252.275 | Unit Supervisor, NRC.
§ 252.282 | Unit Supervisor, NRC.
§ 252.285 | Unit Supervisor, NRC.
§ 252.290 | Unit Supervisor, NRC.
§ 252.301 | Unit Supervisor to remit tax of $10,000 or less. Section Chief to remit tax of more than $10,000 but not more than $100,000 of tax. Chief, NRC, to remit tax of more than $100,000.
§ 252.302 | Unit Supervisor to allow tax of $10,000 or less. Section Chief to allow tax of more than $10,000 but not more than $100,000 of tax. Chief, NRC, to allow tax of more than $100,000.
§ 252.303 | Unit Supervisor, NRC.
§ 252.304 | Unit Supervisor for claim of $10,000 or less. Section Chief for claim of more than $10,000 but not more than $100,000 of tax. Chief, NRC, for claim of more than $100,000.
§ 252.310 | Unit Supervisor for loss of $10,000 or less. Section Chief for loss of more than $10,000 but not more than $100,000 of tax. Chief, NRC, for loss of more than $100,000.
§ 252.315 | Unit Supervisor for loss of $10,000 or less. Section Chief for loss of more than $10,000 but not more than $100,000 of tax. Chief, NRC, for loss of more than $100,000.
§ 252.316 | Unit Supervisor for loss of $10,000 or less. Section Chief for loss of more than $10,000 but not more than $100,000 of tax. Chief, NRC, for loss of more than $100,000. Unit Supervisor, NRC to require claim and grant extensions.
§ 252.317 | Unit Supervisor, NRC, with whom claim is filed. Unit Supervisor, NRC, or Area Supervisor to request additional evidence.
§ 252.320 | Unit Supervisor, NRC, to receive. Unit Supervisor for loss of $10,000 or less. Section Chief for loss of more than $10,000 but not more than $100,000 of tax. Chief, NRC, for loss of more than $100,000.
§ 252.321 | Section Chief, NRC.
§ 252.331 | Unit Supervisor for claim of $10,000 or less. Section Chief for claim of more than $10,000 but not more than $100,000 of tax. Chief, NRC, for claim of more than $100,000.
§ 252.332 | Unit Supervisor, NRC.
§ 252.333 | Unit Supervisor for claim of $10,000 or less. Section Chief for claim of more than $10,000 but not more than $100,000 of tax. Chief, NRC, for claim of more than $100,000.
§ 252.334 | Unit Supervisor for claim of $10,000 or less. Section Chief for claim of more than $10,000 but not more than $100,000 of tax. Chief, NRC, for claim of more than $100,000.
§ 252.335 | Unit Supervisor for claim of $10,000 or less. Section Chief for claim of more than $10,000 but not more than $100,000 of tax. Chief, NRC, for claim of more than $100,000.

BILLING CODE 4810-31-P

[FR Doc. 02-8870 Filed 4-12-02; 8:45 am]

BILLING CODE 4810-31-C